DEPARTMENT OF TRANSPORTATION

National Highway Traffic Safety Administration

[Docket No. NHTSA-2006-26555]

Consumer Information; New Car Assessment Program (NCAP)

AGENCY: National Highway Traffic Safety Administration (NHTSA), Department of Transportation (DOT).

ACTION: Notice of postponement of the implementation of enhancements to the New Car Assessment Program (NCAP).

SUMMARY: On July 11, 2008, NHTSA published in the Federal Register (73 FR 40016) a notice announcing changes to the agency's New Car Assessment Program (NCAP) and stated that these changes would be implemented beginning with model year 2010 vehicles tested as part of the NCAP. This notice announces that implementation of the changes discussed in the July 2008 notice is postponed for one model year. The agency will begin applying the new NCAP testing and safety rating criteria to model year 2011 vehicles, not model year 2010 vehicles as indicated in the July 2008 notice. The agency will continue to utilize the existing NCAP testing and safety rating criteria for the 2010 model year.

DATES: The new NCAP testing and safety rating criteria described in the July 11, 2008 notice will be used for vehicles tested as part of the NCAP beginning with model year 2011 vehicles.

FOR FURTHER INFORMATION CONTACT: For non-legal issues, you may contact Ms. Jennifer N. Dang, Office of Crashworthiness Standards (Telephone: 202-493-0598). For legal issues, you may contact Mr. Ed Glancy, Office of the Chief Counsel (Telephone: 202-366-2992). You may send mail to both of these officials at the National Highway Traffic Safety Administration, 1200 New Jersey Avenue SE., West Building, Washington, DC 20590-0001.

SUPPLEMENTARY INFORMATION:

I. Background

The National Highway Traffic Safety Administration (NHTSA) established the New Car Assessment Program (NCAP) in 1978 in response to Title II of the Motor Vehicle Information and Cost Savings Act of 1972. Beginning with the 1979 model year, NCAP began rating passenger vehicles for frontal impact safety. Ratings for side impact safety were added beginning with the 1997 model year and for rollover resistance beginning with the 2001 model year. None of the testing or safety rating criteria for frontal crash, side crash, and rollover resistance have been substantially revised since they were first established. On January 25, 2007, NHTSA published a notice announcing a public hearing and requesting comments on an agency report titled, “The New Car Assessment Program (NCAP) Suggested Approaches for Future Enhancements.” Following the receipt of written comments and testimony at a March 7, 2007 public hearing, on July 11, 2008 NHTSA published in the Federal Register (73 FR 40016) a notice announcing its final decision as to the specific changes the agency is making in the NCAP testing and safety rating criteria, and stating that these changes would be implemented beginning with model year 2010 vehicles tested as part of NCAP.

II. Rationale for Postponing NCAP Enhancements for One Model Year

NHTSA has decided to postpone implementation of the Department's new 5-star Government safety rating program for one year to begin with Model Year 2011. This delay will give manufacturers another year to prepare for what are the most significant changes since the rating program began in 1979 and provide consumers with an additional year to become familiar with the new rating system.

The agency will, at a later date, issue a notice of proposed rulemaking concerning changes to the vehicle safety rating portion of the Monroney label that will need to be made to reflect the changes to the NCAP announced on July 11, 2008.

Authority: 49 U.S.C. 32302, 30111, 30115, 30117, 30166, and 30168, and Pub. L. 106-414, 114 Stat. 1800; delegation of authority at 49 CFR 1.50.

Issued on: December 19, 2008.
David Kelly,
Acting Administrator.

[FR Doc. E8-30701 Filed 12-19-08; 4:15 pm]

BILLING CODE 4910-59-P